DEPARTMENT OF HOUSING AND URBAN DEVELOPMENT

[Docket No. FR-5125-N-27]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, Attn: DAIM-ZS, Rm 8536, 2511 Jefferson Davis Hwy., Arlington, VA 22202; (703) 601-2545; ENERGY: Mr. John Watson, Department of Energy, Office of Engineering & Construction Management, ME-90, 1000 Independence Ave, SW., Washington, DC 20585: (202) 586-0072; INTERIOR: Mr. Michael Wright, Acquisition & Property Management, Department of the Interior, 1849 C Street, NW., MS2603, Washington, DC 20240; (202) 513-0747; NAVY: Mr. Warren Meekins, Associate Director, Department of the Navy, Real Estate Services, Naval Facilities Engineering Command, Washington Navy Yard, 1322 Patterson Ave., SE., Suite 1000, Washington, DC 20374-5065; (202) 685-9305. (These are not toll-free numbers.)

Dated: June 28, 2007.
Mark R. Johnston,
Deputy Assistant Secretary for Special Needs.

Title V, Federal Surplus Property Program Federal Register Report

Unsuitable Properties

Building

California

Bldgs. 194A, 198

Lawrence Livermore Natl Lab

Livermore CA

Landholding Agency: Energy

Property Number: 41200720007

Status: Excess

Reasons: Secured Area, Within 2000 ft. of flammable or explosive material

Bldgs. 213, 280

Lawrence Livermore Natl Lab

Livermore CA

Landholding Agency: Energy

Property Number: 41200720008

Status: Excess

Reasons: Within 2000 ft. of flammable or explosive material, Secured Area

Bldgs. 312, 345

Lawrence Livermore Natl Lab

Livermore CA

Landholding Agency: Energy

Property Number: 41200720009

Status: Excess

Reasons: Secured Area, Within 2000 ft. of flammable or explosive material

Unsuitable Properties

Building

California

Bldgs. 2177, 2178

Lawrence Livermore Natl Lab

Livermore CA

Landholding Agency: Energy

Property Number: 41200720010

Status: Excess

Reasons: Within 2000 ft. of flammable or explosive material, Secured Area

Bldgs. 2687, 3777

Lawrence Livermore Natl Lab

Livermore CA

Landholding Agency: Energy

Property Number: 41200720011

Status: Excess

Reasons: Secured Area, Within 2000 ft. of flammable or explosive material

Bldgs. 263, 419

Lawrence Livermore Natl Lab

Livermore CA

Landholding Agency: Energy

Property Number: 41200720012

Status: Excess

Reasons: Within 2000 ft. of flammable or explosive material, Secured Area

Bldgs. 1401, 1402, 1404

Lawrence Livermore Natl Lab

Livermore CA

Landholding Agency: Energy

Property Number: 41200720013

Status: Excess

Reasons: Within 2000 ft. of flammable or explosive material, Secured Area

Unsuitable Properties

Building

California

Bldgs. 1405, 1406, 1407

Lawrence Livermore Natl Lab

Livermore CA

Landholding Agency: Energy

Property Number: 41200720014

Status: Excess

Reasons: Secured Area, Within 2000 ft. of flammable or explosive material

Bldgs. 1408, 1413, 1456

Lawrence Livermore Natl Lab

Livermore CA

Landholding Agency: Energy

Property Number: 41200720015

Status: Excess

Reasons: Secured Area, Within 2000 ft. of flammable or explosive material

Bldg. 2684

Lawrence Livermore Natl Lab

Livermore CA

Landholding Agency: Energy

Property Number: 41200720016

Status: Excess

Reasons: Secured Area, Within 2000 ft. of flammable or explosive material

Bldg. 4048

Yosemite National Park

Wawona CA

Landholding Agency: Interior

Property Number: 61200720011

Status: Unutilized

Reasons: Extensive deterioration

Unsuitable Properties

Building

California

Bldgs. 11090, 98033

Naval Air Weapons

China Lake CA 93555

Landholding Agency: Navy

Property Number: 77200720054

Status: Excess

Reasons: Secured Area, Extensive deterioration

Bldgs. 41314, 41362

Marine Corps Base

Camp Pendleton CA 92055

Landholding Agency: Navy

Property Number: 77200720055

Status: Excess

Reasons: Extensive deterioration

Bldgs. 192, 193, 410

Naval Base

San Diego CA

Landholding Agency: Navy

Property Number: 77200720063

Status: Excess

Reasons: Secured Area

Unsuitable Properties

Building

Florida

Bldgs. 421, 422

Everglades National Park

Flamingo District

Monroe FL

Landholding Agency: Interior

Property Number: 61200720012

Status: Unutilized

Reasons: Extensive deterioration

Bldg. 473

Everglades National Park

Flamingo Lodge

Monroe FL

Landholding Agency: Interior

Property Number: 61200720013

Status: Unutilized

Reasons: Extensive deterioration

Bldgs. 474-485

Everglades National Park

Flamingo Lodge

Monroe FL

Landholding Agency: Interior

Property Number: 61200720014

Status: Unutilized

Reasons: Extensive deterioration

Bldgs. A-G

Everglades National Park

Flamingo Lodge

Monroe FL

Landholding Agency: Interior

Property Number: 61200720015

Status: Unutilized

Reasons: Extensive deterioration

Unsuitable Properties

Building

Florida

Stilt Dormitory House

Flamingo

Monroe FL

Landholding Agency: Interior

Property Number: 61200720016

Status: Unutilized

Reasons: Extensive deterioration

Bldgs. T60, T61

Everglades National Park

Flamingo

Monroe FL

Landholding Agency: Interior

Property Number: 61200720017

Status: Unutilized

Reasons: Extensive deterioration

Bldg. 701

Everglades National Park

Chekika

Monroe FL

Landholding Agency: Interior

Property Number: 61200720018

Status: Unutilized

Reasons: Extensive deterioration

Bldgs. 714A, 717

Everglades National Park

Chekika

Monroe FL

Landholding Agency: Interior

Property Number: 61200720019

Status: Unutilized

Reasons: Extensive deterioration

Unsuitable Properties

Building

Florida

Waste Water Treatment Plant

Everglades National Park

Chekika

Monroe FL

Landholding Agency: Interior

Property Number: 61200720020

Status: Unutilized

Reasons: Extensive deterioration

Hawaii

Bldg. 25

Naval Computer & Telecommunications

Wahiawa HI 96786

Landholding Agency: Navy

Property Number: 77200720056

Status: Excess

Reasons: Extensive deterioration

Bldg. 398

Naval Computer & Telecommunications

Wahiawa HI 96786

Landholding Agency: Navy

Property Number: 77200720057

Status: Excess

Reasons: Extensive deterioration

Bldg. 408

Naval Station

Pearl Harbor HI 96860

Landholding Agency: Navy

Property Number: 77200720058

Status: Excess

Reasons: Extensive deterioration

Unsuitable Properties

Building

Hawaii

Bldgs. 300, 442

Ford Island

Naval Station

Pearl Harbor HI 96860

Landholding Agency: Navy

Property Number: 77200720059

Status: Excess

Reasons: Extensive deterioration, Secured Area

Bldgs. A3, 425

Naval Station

Pearl Harbor HI 96860

Landholding Agency: Navy

Property Number: 77200720060

Status: Excess

Reasons: Extensive deterioration, Secured Area

Bldg. 59

Naval Station

Beckoning Point

Pearl Harbor HI 96860

Landholding Agency: Navy

Property Number: 77200720061

Status: Excess

Reasons: Extensive deterioration, Secured Area

Unsuitable Properties

Building

Illinois

Bldgs. 306A, B, C, TR-5

Argonne National Lab

Argonne IL 60439

Landholding Agency: Energy

Property Number: 41200720017

Status: Excess

Reasons: Secured Area

Virginia

Bldg. 00172

Defense Supply Center

Richmond VA 23297

Landholding Agency: Army

Property Number: 21200720112

Status: Excess

Reasons: Secured Area

West Virginia

Bldg. 64

Naval Info Operations Command

Sugar Grove WV 26815

Landholding Agency: Navy

Property Number: 77200720062

Status: Excess

Reasons: Secured Area, Within 2000 ft. of flammable or explosive material

[FR Doc. E7-12890 Filed 7-5-07; 8:45 am]

BILLING CODE 4210-67-P